DEPARTMENT OF DEFENSE

Office of the Secretary

National Defense University Board of Visitors (BOV) Open Meeting

AGENCY: Department of Defense; National Defense University.

ACTION: Notice of open meeting.

SUMMARY: The National Defense University (NDU), Designated Federal Officer, has scheduled a meeting of the Board of Visitors. The National Defense University Board of Visitors is a Federal Advisory Board. The Board meets twice a year in proceedings that are open to the public.

DATES: The meeting will be held on December 2, 2008 from 0900 to 1500 and December 3, 2008 from 1000 to 1300.

ADDRESSES: The Board of Visitors meeting will be held at Building 62, Marshall Hall, Room 155, National Defense University, 300 5th Avenue, Fort McNair, Washington, DC 20319-5066.

FOR FURTHER INFORMATION CONTACT: Jeanette Tolbert at (202) 685-3955, Fax (202) 685-3328, or e-mail: TolbertJ@ndu.edu.

SUPPLEMENTARY INFORMATION: Agenda: State of the University, National Security Professional Development, Accreditation, and Federal Policy.

The meeting is open to the public; limited space is made available for observers and will be allocated on a first-come, first-served basis.

Dated: August 22, 2008.
Patricia L. Toppings,
OSD Federal Register Liaison Officer, Department of Defense.

[FR Doc. E8-20033 Filed 8-28-08; 8:45 am]

BILLING CODE 5001-06-P